DEPARTMENT OF LABOR

Office of the Secretary

[Secretary's Order 09-2006]

Establishment of the Office of Job Corps Within the Office of the Secretary; Delegation of Authority and Assignment of Responsibility to Its Director and Others

1. Purpose. This Order establishes the Office of Job Corps within the Office of the Secretary and delegates authority and assigns responsibility to the Director of the Office of Job Corps and other agency heads to ensure the effective administration of the Job Corps program.

2. Authority and Directives Affected.

A. Authorities. This Order is issued pursuant to 5 U.S.C. 301 (regulatory authority); 29 U.S.C. 551 (Establishment of Department of Labor); Reorganization Plan No. 6 (U.S.C. Appendix 1); section 102 of the Departments of Labor, Health and Human Services, Education, and Related Agencies Appropriations Act, 2006 (Pub. L.109-149); and Title I-C of the Workforce Investment Act of 1998 (29 U.S.C. 2881-2901).

B. Directives Affected. The provisions of Secretary's Orders 4-75 and 2-82 delegating authority and assigning responsibility for administration of the Job Corps program to the Assistant Secretary for Employment and Training are hereby superseded.

3. Background. This Order implements section 102 of the Departments of Labor, Health and Human Services, Education, and Related Agencies Appropriations Act, 2006 (Pub. L. 109-149), which directs the Secretary of Labor to establish and maintain an Office of Job Corps within the Office of the Secretary to carry out the functions (including duties, responsibilities and procedures) of Title I-C of the Workforce Investment Act of 1998. The section further requires the Secretary to appoint a senior member of the civil service to head the Office of Job Corps (hereafter referred to as the Director of the Office of Job Corps) and carry out such Title I-C. The section also provides that the Director of the Office of Job Corps is to receive support as necessary from the Assistant Secretary for Administration and Management with respect to contracting functions and the Assistant Secretary of Policy with respect to research and evaluation functions.

Prior to the issuance of this Order, the authority and responsibility to carry out the Job Corps program was delegated and assigned to the Assistant Secretary for Employment and Training under Secretary's Orders 4-75 and 2-82.

4. Establishment of Office. There is hereby established the Office of Job Corps within the Office of the Secretary to carry out the functions of the Job Corps program under Title I-C of the Workforce Investment Act of 1998 except as otherwise provided in this Order.

5. Delegation of Authority and Assignment of Responsibility.

A. The Director of the Office of Job Corps is delegated the authority and assigned the responsibility for carrying out the Job Corps program under subtitle C of Title I of the Workforce Investment Act of 1998 (29 U.S.C. 2881-2901) and related Federal laws, regulations and directives, except as otherwise specified in this Order.

B. The Assistant Secretary for Policy is delegated authority and assigned responsibility to provide necessary support with respect to research and evaluation activities, and to provide policy advice and analytical support with respect to policy initiatives relating to the Job Corps program.

C. The Assistant Secretary for Administration and Management is delegated authority and assigned responsibility to:

(1) Provide necessary support in carrying out the contracting and other procurement functions relating to the Job Corps program;

(2) assure that there is an appropriate transfer of resources, including appropriated funds and personnel, necessary to implement this Order that is fully consistent with the budget policies of the Department; and

(3) assure that other appropriate administrative and management support is furnished, as required, for the efficient and effective operation of the Job Corps program.

D. The Assistant Secretary for Public Affairs is delegated authority and assigned responsibility to ensure that the public affairs and public information activities of the Job Corps program are carried out in accordance with Secretary's Order 7-89, regarding the responsibilities of the Assistant Secretary for Public Affairs, and Secretary's Order 2-05, regarding the Enterprise Communication Initiative.

E. The Solicitor of Labor is:

(1) Responsible for providing legal advice and assistance to all officials of the Department relating to the implementation and administration of all aspects of this Order and related statutes, regulations and directives; for bringing appropriate legal actions on behalf of the Secretary, and representing the Secretary in all civil proceedings; and

(2) Delegated the authority and assigned the responsibility of carrying out the provisions of section 157(b) of the Workforce Investment Act of 1998 (29 U.S.C. 2897(b)) relating to adjustments and settlements of claims for damages resulting from the operation of the Job Corps.

6. Reservation of Authority and Responsibility.

A. No delegation of authority or assignment of responsibility under this Order will be deemed to affect the Secretary's authority to continue to exercise or further delegate such authority or responsibility.

B. The submission of reports and recommendations to the President and the Congress concerning the administration of the Job Corps program is reserved to the Secretary.

C. Nothing in this Order shall limit or modify the provision of any other Secretary's Order, including the Secretary's Order 2-90 regarding the Office of the Inspector General, except as expressly provided.

7. Redelegation of Authority. The Director of the Office of Job Corps, Assistant Secretary for Policy, Assistant Secretary for Administration and Management, Assistant Secretary for Public Affairs and Solicitor of Labor may further redelegate, unless otherwise prohibited, the authority and responsibilities delegated to them by this Order.

8. Effective Date. This Order is effective immediately.

Dated: March 23, 2006.
Elaine L. Chao,
Secretary of Labor.

[FR Doc. 06-3081 Filed 3-29-06; 8:45 am]

BILLING CODE 4510-23-P